DEPARTMENT OF THE INTERIOR

National Park Service

[NPS-WASO-NAGPRA-NPS0040401; PPWOCRADN0-PCU00RP14.R50000]

Notice of Inventory Completion: Los Rios Community College District, Sacramento, CA

AGENCY: National Park Service, Interior.

ACTION: Notice.

SUMMARY: In accordance with the Native American Graves Protection and Repatriation Act (NAGPRA), the Los Rios Community College District (LRCCD) has completed an inventory of human remains and associated funerary objects and has determined that there is a cultural affiliation between the human remains and associated funerary objects and Indian Tribes or Native Hawaiian organizations in this notice.

DATES: Repatriation of the human remains and associated funerary objects in this notice may occur on or after July 17, 2025.

ADDRESSES: Send written requests for repatriation of the human remains and associated funerary objects in this notice to Jamey Nye, Los Rios Community College District, 1919 Spanos Ct, Arden-Arcade, CA 95825, email nagpra@losrios.edu.

SUPPLEMENTARY INFORMATION: This notice is published as part of the National Park Service's administrative responsibilities under NAGPRA. The determinations in this notice are the sole responsibility of LRCCD, and additional information on the determinations in this notice, including the results of consultation, can be found in the inventory or related records. The National Park Service is not responsible for the determinations in this notice.

Abstract of Information Available

Based on the information available, human remains representing, at least, nine individuals have been reasonably identified. In 2023 and 2024, the individuals were located on the Sacramento City College, Folsom Lake College, and American River College campuses, three of four colleges within the Los Rios Community College District (LRCCD), during a campus wide audit. Based on Tribal knowledge and the acquisition history of the district, the individuals were very likely removed from somewhere in California by Jeremiah B. Lillard, the first president of Sacramento Junior College, now Sacramento City College, between 1923 and 1940. The exact location of where Lillard removed the ancestors is unknown. There are no associated funerary objects present. LRCCD does not have any knowledge or record of the presence of any potentially hazardous substances used to treat any of the human remains.

Based on the information available, human remains representing, at least, 40 individuals have been reasonably identified. In 2023 and 2024, the individuals were located on the American River College, Cosumnes River College, and Sacramento City College campuses, three of four campuses within LRCCD, during a campus-wide audit of collections. The individuals were located without any associated paperwork, but based on the acquisition history of the district, it is likely the individuals were removed from California. The three associated funerary objects are one lot of faunal bone and two rocks. LRCCD does not have any knowledge or record of the presence of any potentially hazardous substances used to treat any of the human remains and associated funerary objects.

Cultural Affiliation

Based on the information available and the results of consultation cultural affiliation is reasonably identified by the acquisition history of the human remains and associated funerary objects described in this notice.

Determinations

LRCCD has determined that:

• The human remains described in this notice represent the physical remains of 49 individuals of Native American ancestry.

• The three objects described in this notice are reasonably believed to have been placed intentionally with or near individual human remains at the time of death or later as part of the death rite or ceremony.

• There is a reasonable connection between the human remains and associated funerary objects described in this notice and the Agua Caliente Band of Cahuilla Indians of the Agua Caliente Indian Reservation, California; Alturas Indian Rancheria, California; Augustine Band of Cahuilla Indians, California; Bear River Band of the Rohnerville Rancheria, California; Berry Creek Rancheria of Maidu Indians of California; Big Lagoon Rancheria, California; Big Pine Paiute Tribe of the Owens Valley; Big Sandy Rancheria of Western Mono Indians of California; Big Valley Band of Pomo Indians of the Big Valley Rancheria, California; Bishop Paiute Tribe; Blue Lake Rancheria, California; Bridgeport Indian Colony; Buena Vista Rancheria of Me-wuk Indians of California; Burns Paiute Tribe; Cabazon Band of Cahuilla Indians (previously listed as Cabazon Band of Mission Indians, California); Cachil DeHe Band of Wintun Indians of the Colusa Indian Community of the Colusa Rancheria, California; Cahto Tribe of the Laytonville Rancheria; Cahuilla Band of Indians; California Valley Miwok Tribe, California; Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Cedarville Rancheria, California; Chemehuevi Indian Tribe of the Chemehuevi Reservation, California; Cher-Ae Heights Indian Community of the Trinidad Rancheria, California; Chicken Ranch Rancheria of Me-Wuk Indians of California; Cloverdale Rancheria of Pomo Indians of California; Cold Springs Rancheria of Mono Indians of California; Colorado River Indian Tribes of the Colorado River Indian Reservation, Arizona and California; Coyote Valley Band of Pomo Indians of California; Dry Creek Rancheria Band of Pomo Indians, California; Elem Indian Colony of Pomo Indians of the Sulphur Bank Rancheria, California; Elk Valley Rancheria, California; Ely Shoshone Tribe of Nevada; Enterprise Rancheria of Maidu Indians of California; Ewiiaapaayp Band of Kumeyaay Indians, California; Federated Indians of Graton Rancheria, California; Fort Bidwell Indian Community of the Fort Bidwell Reservation of California; Fort Independence Indian Community of Paiute Indians of the Fort Independence Reservation, California; Fort McDermitt Paiute and Shoshone Tribes of the Fort McDermitt Indian Reservation, Nevada and Oregon; Fort McDowell Yavapai Nation, Arizona; Fort Mojave Indian Tribe of Arizona, California & Nevada; Greenville Rancheria; Grindstone Indian Rancheria of Wintun-Wailaki Indians of California; Guidiville Rancheria of California; Habematolel Pomo of Upper Lake, California; Hoopa Valley Tribe, California; Hopland Band of Pomo Indians, California; Iipay Nation of Santa Ysabel, California; Inaja Band of Diegueno Mission Indians of the Inaja and Cosmit Reservation, California; Ione Band of Miwok Indians of California; Jackson Band of Miwuk Indians; Jamul Indian Village of California; Kaibab Band of Paiute Indians of the Kaibab Indian Reservation, Arizona; Karuk Tribe; Kashia Band of Pomo Indians of the Stewarts Point Rancheria, California; Klamath Tribes; Kletsel Dehe Wintun Nation of the Cortina Rancheria (previously listed as the Kletsel Dehe Band of Wintun Indians); Koi Nation of Northern California; La Jolla Band of Luiseno Indians, California; La Posta Band of Diegueno Mission Indians of the La Posta Indian Reservation, California; Las Vegas Tribe of Paiute Indians of the Las Vegas Indian Colony, Nevada; Lone Pine Paiute-Shoshone Tribe; Los Coyotes Band of Cahuilla and Cupeno Indians, California; Lovelock Paiute Tribe of the Lovelock Indian Colony, Nevada; Lytton Rancheria of California; Manchester Band of Pomo Indians of the Manchester Rancheria, California; Manzanita Band of Diegueno Mission Indians of the Manzanita Reservation, California; Mechoopda Indian Tribe of Chico Rancheria, California; Mesa Grande Band of Diegueno Mission Indians of the Mesa Grande Reservation, California; Middletown Rancheria of Pomo Indians of California; Moapa Band of Paiute Indians of the Moapa River Indian Reservation, Nevada; Modoc Nation; Mooretown Rancheria of Maidu Indians of California; Morongo Band of Mission Indians, California; Northfork Rancheria of Mono Indians of California; Northwestern Band of the Shoshone Nation; Paiute Indian Tribe of Utah (Cedar Band of Paiutes, Kanosh Band of Paiutes, Koosharem Band of Paiutes, Indian Peaks Band of Paiutes, and Shivwits Band of Paiutes); Paiute-Shoshone Tribe of the Fallon Reservation and Colony, Nevada; Pala Band of Mission Indians; Paskenta Band of Nomlaki Indians of California; Pauma Band of Luiseno Mission Indians of the Pauma & Yuima Reservation, California; Pechanga Band of Indians (previously listed as Pechanga Band of Luiseno Mission Indians of the Pechanga Reservation, California); Picayune Rancheria of Chukchansi Indians of California; Pinoleville Pomo Nation, California; Pit River Tribe, California (includes XL Ranch, Big Bend, Likely, Lookout, Montgomery Creek and Roaring Creek Rancherias); Potter Valley Tribe, California; Pulikla Tribe of Yurok People (previously listed as Resighini Rancheria, California); Pyramid Lake Paiute Tribe of the Pyramid Lake Reservation, Nevada; Quartz Valley Indian Community of the Quartz Valley Reservation of California; Quechan Tribe of the Fort Yuma Indian Reservation, California & Arizona; Ramona Band of Cahuilla, California; Redding Rancheria, California; Redwood Valley or Little River Band of Pomo Indians of the Redwood Valley Rancheria, California; Reno-Sparks Indian Colony, Nevada; Rincon Band of Luiseno Indians of Rincon Reservation, California; Robinson Rancheria; Round Valley Indian Tribes, Round Valley Reservation, California; San Juan Southern Paiute Tribe of Arizona; San Pasqual Band of Diegueno Mission Indians of California; Santa Rosa Band of Cahuilla Indians, California; Santa Rosa Indian Community of the Santa Rosa Rancheria, California; Santa Ynez Band of Chumash Mission Indians of the Santa Ynez Reservation, California; Scotts Valley Band of Pomo Indians of California; Sherwood Valley Rancheria of Pomo Indians of California; Shingle Springs Band of Miwok Indians, Shingle Springs Rancheria (Verona Tract), California; Shoshone-Bannock Tribes of the Fort Hall Reservation; Shoshone-Paiute Tribes of the Duck Valley Reservation, Nevada; Soboba Band of Luiseno Indians, California; Summit Lake Paiute Tribe of Nevada; Susanville Indian Rancheria, California; Sycuan Band of the Kumeyaay Nation; Table Mountain Rancheria; Tejon Indian Tribe; Te-Moak Tribe of Western Shoshone Indians of Nevada (Four constituent bands: Battle Mountain Band; Elko Band; South Fork Band and Wells Band); Timbisha Shoshone Tribe; Tolowa Dee-ni' Nation; Torres Martinez Desert Cahuilla Indians, California; Tule River Indian Tribe of the Tule River Reservation, California; Tuolumne Band of Me-Wuk Indians of the Tuolumne Rancheria of California; Twenty-Nine Palms Band of Mission Indians of California; United Auburn Indian Community of the Auburn Rancheria of California; Utu Utu Gwaitu Paiute Tribe of the Benton Paiute Reservation, California; Walker River Paiute Tribe of the Walker River Reservation, Nevada; Washoe Tribe of Nevada & California (Carson Colony, Dresslerville Colony, Woodfords Community, Stewart Community, & Washoe Ranches); Wilton Rancheria, California; Winnemucca Indian Colony of Nevada; Wiyot Tribe, California; Yerington Paiute Tribe of the Yerington Colony & Campbell Ranch, Nevada; Yocha Dehe Wintun Nation, California; Yuhaaviatam of San Manuel Nation (previously listed as San Manuel Band of Mission Indians, California); and the Yurok Tribe of the Yurok Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 17, 2025. If competing requests for repatriation are received, LRCCD must determine the most appropriate requestor prior to repatriation. Requests for joint repatriation of the human remains and associated funerary objects are considered a single request and not competing requests. LRCCD is responsible for sending a copy of this notice to the Indian Tribes and Native Hawaiian organizations identified in this notice.

Authority: Native American Graves Protection and Repatriation Act, 25 U.S.C. 3003, and the implementing regulations, 43 CFR 10.10.

Dated: June 11, 2025.
Melanie O'Brien,
Manager, National NAGPRA Program.

[FR Doc. 2025-11140 Filed 6-16-25; 8:45 am]

BILLING CODE 4312-52-P